DEPARTMENT OF THE INTERIOR

National Park Service

[NPS-WASO-NAGPRA-NPS0032935; PPWOCRADN0-PCU00RP14.R50000]

Notice of Intent To Repatriate Cultural Items: McClure Archives and University Museum, University of Central Missouri, Warrensburg, MO

AGENCY: National Park Service, Interior.

ACTION: Notice.

SUMMARY: The McClure Archives and University Museum, University of Central Missouri, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the McClure Archives and University Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the McClure Archives and University Museum at the address in this notice by December 6, 2021.

FOR FURTHER INFORMATION CONTACT: Olivia Thomsen, NAGPRA Preparator, McClure Archives and University Museum of JCKL 1470, 601 Missouri Street, Warrensburg, MO 64093, telephone (660) 543-4649, email thomsen@ucmo.edu.

SUPPLEMENTARY INFORMATION: Notice is here given in accordance with the Native American Graves Protection and Repatriation Act (NAGPRA), 25 U.S.C. 3005, of the intent to repatriate cultural items under the control of the McClure Archives and University Museum, University of Central Missouri, Warrensburg, MO, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime in the early 20th century, six cultural items were separated from the Gwich'in in Alaska. As a result of consultation, the Museum has determined that all six items are culturally affiliated with the Native Village of Fort Yukon.

Four of the items were collected or bought at the Native Village of Fort Yukon by Ethel Ellis, a missionary who worked in Alaska in the late 1800s and early 1900s. In 1919, Ellis donated the items to the Museum. The cultural items are a small, beaded bag, beaded mittens, beaded snow moccasins, and beaded garters whose origin is the Native Village of Fort Yukon.

A fifth item was collected or bought by Dr. George C. Stevens. Stevens did not specify from which band or native village of the Gwich'in he obtained the item. In 1968, he donated the item to the Museum. The cultural item is a pair of wooden snowshoes.

The sixth item was collected or bought by Robert Spier. Spier did not specify from which band or native village of the Gwich'in he obtained the item. Spier died in 2014, and in 2016, his widow, Carolyn Spier, donated the item to the Museum. The cultural item is a birch bark basket.

Determinations Made by the McClure Archives and University Museum, University of Central Missouri

Officials of the McClure Archives and University Museum, University of Central Missouri have determined that:

• Pursuant to 25 U.S.C. 3001(3)(D), the six cultural items described above have ongoing historical, traditional, or cultural importance central to the Native American group or culture itself, rather than property owned by an individual.

• Pursuant to 25 U.S.C. 3001(2), there is a relationship of shared group identity that can be reasonably traced between the objects of cultural patrimony and the Native Village of Fort Yukon.

Additional Requestors and Disposition

Lineal descendants or representatives of any Indian Tribe or Native Hawaiian organization not identified in this notice that wish to claim these cultural items should submit a written request with information in support of the claim to Olivia Thomsen, NAGPRA Preparator, McClure Archives and University Museum of JCKL 1470, 601 Missouri Street, Warrensburg, MO 64093, telephone (660) 543-4649, email thomsen@ucmo.edu, by December 6, 2021. After that date, if no additional claimants have come forward, transfer of control of the objects of cultural patrimony to the Native Village of Fort Yukon may proceed.

The McClure Archives and University Museum, University of Central Missouri is responsible for notifying the Native Village of Fort Yukon that this notice has been published.

Dated: October 23, 2021.
Melanie O'Brien,
Manager, National NAGPRA Program.

[FR Doc. 2021-24049 Filed 11-3-21; 8:45 am]

BILLING CODE 4312-52-P